DEPARTMENT OF TRANSPORTATION

Coast Guard

33 CFR Part 117

[CGD08-00-005]

RIN 2115-AE47

Drawbridge Operation Regulation; Chef Menteur Pass, LA

AGENCY: Coast Guard, DOT.

ACTION: Notice of proposed rulemaking.

SUMMARY: The Coast Guard is proposing a change to the regulation governing the operation of the U.S. Highway 90 bridge across Chef Menteur Pass, mile 2.8 at Lake Catherine, Orleans Parish, Louisiana. The proposal would change the current regulation which provides for a two-hour morning closure period between 5:30 a.m. and 7:30 a.m. Mondays through Fridays except Federal holidays and require the draw to open on the hour and half-hour between 5:30 a.m. to 7:30 a.m., Monday through Friday, except Federal holidays. This change would accommodate the navigation needs of commercial fishing vessels.

DATES: Comments and related material must reach the Coast Guard on or before July 31, 2000.

ADDRESSES: You may mail comments to Commander (ob), Eighth Coast Guard District, 501 Magazine Street, New Orleans, Louisiana 70130-3396, or deliver them to room 1313 at the same address between 7 a.m. and 3 p.m., Monday through Friday, except Federal holidays. The Commander, Eighth Coast Guard District, Bridge Administration Branch maintains the public docket for this rulemaking. Comments and material received from the public, as well as documents indicated in this preamble as being available in the docket, will become part of this docket and will be available for inspection or copying at the Bridge Administration Branch, Eighth Coast Guard District between 7 a.m. and 3 p.m., Monday through Friday, except Federal holidays.

FOR FURTHER INFORMATION CONTACT: Phil Johnson, Bridge Administration Branch, 504-589-2965.

SUPPLEMENTARY INFORMATION:

Request for Comments

We encourage you to participate in this rulemaking by submitting comments and related material. If you do so, please include your name and address, identify the docket number for this rulemaking (CGD08-00-005), indicate the specific section of this document to which each comment applies, and give the reason for each comment. Please submit all comments and related material in an unbound format, no larger than 81/2 by 11 inches, suitable for copying. If you would like to know they reached us, please enclose a stamped, self-addressed postcard or envelope. We will consider all comments and material received during the comment period. We may change this proposed rule in view of them.

Public Meeting

We do not now plan to hold a public meeting. But you may submit a request for a meeting by writing to the Commander, Eighth Coast Guard District, Bridge Administration Branch at the address under ADDRESSES explaining why one would be beneficial. If we determine that one would aid this rulemaking, we will hold one at a time and place announced by a later notice in the Federal Register.

Background and Purpose

To meet the needs of commuters who cross the U.S. Highway 90 bridge each day en route to work in the Almonaster Industrial District, the Coast Guard issued a final rule effective February 23, 1999 (64 FR 8720) allowing the bridge to remain closed to navigation from 5:30 a.m. to 7:30 a.m., Monday Through Friday, except Federal holidays. The draw opens at any time for a vessel in distress.

Since the rule has been in effect, the Coast Guard received numerous complaints from operators of commercial fishing vessels stating that the regulation does not meet the needs of navigation for local commercial fishermen because they are required to haul in their shrimp nets earlier than necessary to be able pass through the bridge before the closure time. Local commercial fishermen generally trawl for shrimp during evening hours. This is because brown shrimp feed at night above the bottom. Once daylight occurs they bury themselves in the mud and can no longer be caught with trawl nets. Since the fishermen need to maximize trawling time, they work from sundown until sunrise then enter port and unload their catches. In order for them to transit the U.S. Highway 90 bridge before the 5:30 closure, they must haul in their nets as much as two hours early and head into port. This cuts down trawling time and causes loss of revenue. Based on complaints from local commercial fishermen, the Coast Guard determined that the current operating schedule may not meet the reasonable needs of navigation.

Discussion of Proposed Rule

This proposed rule would revise 33 CFR 117.436. In order to accommodate motorists who live in the Lake Catherine area and commute to work via the U. S. Highway 90 bridge across Chef Menteur Pass, mile 2.8, while providing for the needs of commercial fishermen, the Coast Guard is proposing to change the regulation to permit the draw to open to navigation only on the hour and on the half-hour from 5:30 a.m. to 7:30 a.m., Monday through Friday, except Federal holidays. The proposed regulation would allow for the free flow of vehicular traffic for the majority of the year, while still serving the reasonable needs of navigational interests.

A comment period, extending through July 31, 2000 will be allowed for mariners, motorists and other interested parties to provide comments and data on the proposed change. During the comment period, to test this proposed rule, the Coast Guard has issued a temporary deviation from the drawbridge operating regulations. The temporary deviation is published elsewhere in this Federal Register. The temporary deviation is in effect from June 1, 2000 through June 30, 2000 and will require that the draw open for the passage of vessels on the hour and on the half-hour from 5:30 a.m. to 7:30 a.m., Monday through Friday, except Federal holidays. The bridge will open on signal at all other times or at any time for a vessel in distress. We request comments on how the test schedule works during this period.

Regulatory Evaluation

This proposed rule is not a “significant regulatory action” under section 3(f) of Executive Order 12866 and does not require an assessment of potential costs and benefits under section 6(a)(3) of that Order. The Office of Management and Budget has not reviewed it under that Order. It is not significant under the regulatory policies and procedures of the Department of Transportation (DOT)(44 FR 11040, February 26, 1979).

We expect the economic impact of this proposed rule to be so minimal that a full Regulatory Evaluation under paragraph 10e of the regulatory policies and procedures of DOT is unnecessary.

This proposed rule will have a positive impact on the economic status of the local commercial fishermen as it provides them with adequate time to trawl. It will not create a significant adverse effect for the local motorists who cross the bridge on weekdays en route to work. The motorists will be able to adjust their commuting schedules to accommodate the hour and half-hour drawbridge openings.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. The small entities concerned with this proposed rule are the local commercial fishermen who transit the bridge. This proposed rule will positively affect the local commercial fishermen by affording them adequate time to trawl. They will not be required to haul in their nets early in order to transit through the bridge en route to port.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact the Bridge Administration Branch, Eighth Coast Guard District at the address above.

Collection of Information

This proposed rule would call for no new collection of information under the Paperwork Reduction Act of 1995 (44 U.S.C. 3501-3520).

Federalism

We have analyzed this proposed rule under E.O. 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under E.O. 12630, Governmental Actions and Interference with Constitutionally Protected Property Rights.

Civil Justice Reform

This proposed rule meets applicable standards in sections 3(a) and 3(b)(2) of E.O. 12988, Civil Justice Reform, to minimize litigation, eliminate ambiguity, and reduce burden.

Protection of Children

We have analyzed this proposed rule under E.O. 13045, Protection of Children from Environmental Health Risks and Safety Risks. This rule is not an economically significant rule and does not concern an environmental risk to health or risk to safety that may disproportionately affect children.

Environment

We considered the environmental impact of this proposed rule and concluded that, under figure 2-1, paragraph (32)(e), of Commandant Instruction M16475.lC, this proposed rule is categorically excluded from further environmental documentation. This proposal will change an existing special drawbridge operating regulation promulgated by a Coast Guard Bridge Administration Program action. A “Categorical Exclusion Determination” is available in the docket where indicated under ADDRESSES.

List of Subjects in 33 CFR Part 117

Bridges.

For the reasons set out in the preamble, the Coast Guard proposes to amend part 117 of title 33, Code of Federal Regulations, as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. Section 117.436 is revised to read as follows:

§ 117.436 Chef Menteur Pass.

The draw of the U.S. Highway 90 bridge, mile 2.8, at Lake Catherine, shall open on signal; except that, from 5:30 a.m. to 7:30 a.m., Monday through Friday except Federal holidays, the draw need open only on the hour and on the half-hour for the passage of vessels. The draw shall open at any time for a vessel in distress.

Dated: May 1, 2000.
K.J. Eldridge,
Captain, U.S. Coast Guard, Commander, 8th Coast Guard Dist., Acting.

[FR Doc. 00-11703 Filed 5-9-00; 8:45 am]

BILLING CODE 4910-15-P